FEDERAL COMMUNICATIONS COMMISSION

[DA 01-1300]

Auction Filing Window for New Television Stations

AGENCY: Federal Communications Commission.

ACTION: Notice; correction.

SUMMARY: On June 4, 2001, (66 FR 29964), the Commission published a notice regarding auction filing window for new television stations. This document corrects the SUPPLEMENTARY INFORMATION in that notice by adding information and certifications that must be submitted as part of the short-form application (FCC Form 175) for Auction No. 82.

FOR FURTHER INFORMATION CONTACT: Shaun Maher, Video Services Division, Mass Media Bureau at (202) 418-1600.

SUPPLEMENTARY INFORMATION: The Commission published a document in the Federal Register of June 4, 2001 (66 FR 29964). This document corrects the Federal Register as it appeared. In rule FR Doc. 01-14007 published on June 4, 2001 (66 FR 29964), the Commission is correcting the SUPPLEMENTARY INFORMATION to add text that was inadvertently omitted.

Correction

In FR Doc. 01-14007 published on June 4, 2001 (66 FR 29964) make the following correction:

1. On page 29964 and at the end of the second column add the following text to read as follows:

“Each applicant must certify on its FCC Form 175 application that neither it nor its controlling interest holders or affiliates is in default on any Commission licenses and that they are not delinquent on any non-tax debt owed to any Federal agency. In addition, each applicant must attach to its FCC Form 175 application a statement made under penalty of perjury indicating whether or not the applicant, or any of the applicant's controlling interests or their affiliates, as defined by § 1.2110 of the Commission's rules, 47 CFR 1.2110 (as recently amended in the Part 1 Fifth Report and Order) have ever been in default on any Commission licenses or have ever been delinquent on any non-tax debt owed to any federal agency. Applicants must include this statement as Exhibit F of the FCC Form 175. If any of an applicant's controlling interest holders or affiliates, as defined by § 1.2110 of the Commission's rules, have ever been in default on any Commission license or have ever been delinquent on any non-tax debt owed to any Federal agency, the applicant must include such information as part of the same attached statement. Prospective bidders are reminded that the statement must be made under penalty of perjury and, further, submission of a false certification to the Commission is a serious matter that may result in severe penalties, including monetary forfeitures, license revocations, exclusion from participation in future auctions, and/or criminal prosecution. ‘Former defaulters’—i.e., applicants, including their attributable interest holders, that in the past have defaulted on any Commission licenses or been delinquent on any non-tax debt owed to any Federal agency, but that have since remedied all such defaults and cured all of their outstanding non-tax delinquencies—will be eligible to bid in Auction No. 82, provided that they are otherwise qualified. However, former defaulters are required to pay upfront payments that are fifty percent more than the normal upfront payment amounts.” See 47 CFR 1.2106(a).

Federal Communications Commission.
Margaret Wiener,
Chief, Auctions and Industry Analysis Division, WTB.

[FR Doc. 01-16003 Filed 6-22-01; 8:45 am]

BILLING CODE 6712-01-P